DEPARTMENT OF DEFENSE

Department of the Navy

Secretary of the Navy Advisory Panel Meeting

AGENCY: Department of the Navy, DoD.

ACTION: Notice of meeting.

SUMMARY: The Secretary of the Navy (SECNAV) Advisory Panel will meet to discuss energy use within the Department of the Navy.

DATES: The meeting will be held on August 17, 2011, and will be open to the public from 9 a.m. to 5 p.m.

ADDRESSES: The meeting will be held in room 4D447, in the Pentagon.

Access: Public access is limited due to Pentagon Security requirements. Any individual wishing to attend will need to contact Commander Marc Gage at 703-695-3042 no later than August 10, 2011. Members of the public who do not have Pentagon access will be required to provide their name, date of birth and social security number by August 10, 2011, in order to obtain a visitor badge. Public transportation is recommended as public parking is not available. Members of the public wishing to attend this event must enter through the Pentagon's Metro Entrance between 8:30 a.m. and 8:45 a.m. At this entrance, they will be required to present two forms of identification in order to receive a visitors badge and meet their escort. Members obtaining visitor badges will then be escorted to room 4D447 to attend the Advisory Panel meeting. Members of the Public shall remain with designated escorts at all times while on the Pentagon Reservation. Members of the public will be escorted back to the Pentagon Metro Entrance at 5 p.m.

FOR FURTHER INFORMATION CONTACT: Commander Marc Gage, SECNAV Advisory Panel, Deputy Under Secretary of the Navy (Plans, Policy, Oversight, and Integration), 1000 Navy Pentagon, Washington, DC 20350, 703-695-3042.

SUPPLEMENTARY INFORMATION: Individuals or interested groups may submit written statements for consideration by the SECNAV Advisory Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the SECNAV Advisory Panel Chairperson, and ensure they are provided to members of the Panel before the meeting that is the subject of this notice.

To contact the Designated Federal Officer, write to: Designated Federal Officer, SECNAV Advisory Panel, Deputy Under Secretary of the Navy (Plans, Policy, Oversight, and Integration), 1000 Navy Pentagon, Washington, DC 20350.

Dated: July 5, 2011.
L.R. Almand,
Office of the Judge Advocate General, U.S. Navy, Alternate Federal Register Liaison Officer.

[FR Doc. 2011-17418 Filed 7-11-11; 8:45 am]

BILLING CODE 3810-FF-P